UNIFIED CARRIER REGISTRATION PLAN

Sunshine Act Meetings

TIME AND DATE: April 21, 2022, 1:30 p.m. to 5:30 p.m., Eastern time.

PLACE: This meeting will be accessible via conference call and via Zoom Meeting and Screenshare. Any interested person may call (i) 1-929-205-6099 (US Toll) or 1-669-900-6833 (US Toll) or (ii) 1-877-853-5247 (US Toll Free) or 1-888-788-0099 (US Toll Free), Meeting ID: 961 4161 9493, to listen and participate in this meeting. The website to participate via Zoom Meeting and Screenshare is https://kellen.zoom.us/meeting/register/tJIsc-iurzIuE9dYe3jn3S-CAQUGq2EZRaFj.

STATUS: This meeting will be open to the public.

MATTERS TO BE CONSIDERED: The Unified Carrier Registration Plan Board of Directors (the “Board”) will continue its work in developing and implementing the Unified Carrier Registration Plan and Agreement. The subject matter of this meeting will include:

Agenda

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email, followed by subsequent publication of the notice in the Federal Register.

III. Review and Approval of Board Agenda—UCR Board Chair

For Discussion and Possible Board Action

The proposed Agenda will be reviewed, and the Board will consider adoption.

Ground Rules

➢ Board actions taken only in designated areas on agenda

IV. Approval of Minutes of the March 3, 2022 UCR Board Meeting—UCR Board Chair

For Discussion and Possible Board Action

Draft Minutes from the March 3, 2022 UCR Board meeting will be reviewed. The Board will consider action to approve.

V. Report of FMCSA—FMCSA Representative

The Federal Motor Carrier Safety Administration (FMCSA) will provide a report on relevant activity.

VI. Development, Hosting and Maintenance of an IRP Centralized Fee Calculator—UCR Executive Director

For Discussion and Possible Board Action

The UCR Executive Director will discuss the option of development, hosting and maintenance of a centralized IRP fee calculator for the purpose of continuing the Board's progress towards increasing UCR compliance and enhanced data sharing. The Board may take action to authorize proceeding with this option.

VII. Subcommittee Reports

Audit Subcommittee—UCR Audit Subcommittee Chair

A. Proposal To Revise the UCR Handbook Regarding Calculating Fees and New Market Entrants—UCR Audit Subcommittee Chair

For Discussion and Possible Board Action

The Audit Subcommittee Chair will discuss potential revisions to the UCR Handbook regarding terminology used for calculating the UCR fees based on the 6-tier system and new entrants into the market. The Board may consider action to approve revisions to the UCR Handbook calculating UCR fees and when new market entrants are subject to payment of UCR fees.

B. Proposal To Revise the Relevant Time-Period Described in the UCR Handbook—UCR Audit Subcommittee Chair

For Discussion and Possible Board Action

The Audit Subcommittee Chair will discuss potential revisions to the UCR Handbook regarding the relevant time-period to use for determination of the size of a carrier fleet for purposes of determining the appropriate UCR registration tier. The Board may consider action to approve revisions to the UCR Handbook regarding the relevant time-period to use for determination of the size of a carrier fleet for purposes of determine the appropriate UCR registration tier.

C. Proposal To Revise the UCR Handbook Regarding Lightweight or Other Non-Commercial Motor Vehicles—UCR Audit Subcommittee Chair

For Discussion and Possible Board Action

The Audit Subcommittee Chair will discuss potential revisions to the UCR Handbook regarding the definition of lightweight or other non-commercial motor vehicles. The Board may approve revisions to the UCR Handbook regarding the definition of lightweight or other non-commercial motor vehicles.

D. Review of States' Audit Compliance Rates for Registration Years 2021 and 2022—UCR Audit Subcommittee Chair

The Audit Subcommittee Chair will review audit compliance rates for the states for registration years 2021 and 2022 and related compliance percentages for Focused Anomaly Reviews (“FARs”), retreat audits and registration compliance percentages.

E. Review States' Enforcement Efficiency Report for 2022—UCR Audit Subcommittee Chair,

UCR Audit Subcommittee Vice-Chair and DSL Transportation Services, Inc. (DSL)

The Audit Subcommittee Chair, Audit Subcommittee Vice-Chair and DSL will review the Should Have Been (SHB) Report and discuss ideas to help states improve their UCR violation citation rates.

F. Update on the Compliance Video for the National Training Center—UCR Audit

Subcommittee Chair, UCR Education and Training Subcommittee Chair and UCR Executive Director

The Audit Subcommittee Chair, Education and Training Subcommittee Chair and the Executive Director will provide an update to the Board regarding the current status of the Compliance Video for the National Training Center.

Finance Subcommittee—UCR Finance Subcommittee Chair

A. Review of 2021 Administrative Expenses—UCR Finance Subcommittee Chair and UCR Depository Manager

For Discussion and Possible Board Action

The Finance Subcommittee Chair and Depository Manager will review the administrative expenditures of the UCR Plan for the 12 months ended December 31, 2021. The Board may take action to allocate the remaining balance. The Finance Subcommittee recommends the Board allocate the remaining administrative balance as presented.

B. 2020 Registration Year Closure—UCR Finance Subcommittee Chair and UCR Depository Manager

For Discussion and Possible Board Action

The Finance Subcommittee Chair and Depository Manager will present the final results of the closure of the Depository for the 2020 registration year. The Board may take action to authorize the closure of the 2020 registration year. The Finance Subcommittee recommends that the Board authorize the closure of the 2020 registration year as presented.

Education and Training Subcommittee—UCR Education and Training Subcommittee Chair

Update on Current and Future Training Initiatives—UCR Education and Training Subcommittee Chair and UCR Operations Manager

The Education and Training Subcommittee Chair and the UCR Operations Manager will provide an update on the current and planned future training initiatives for the UCR Plan.

VIII. Contractor Reports—UCR Executive Director

• UCR Executive Director's Report

The UCR Executive Director will provide a report covering recent activity for the UCR Plan.

• DSL Transportation Services, Inc.

DSL Transportation Services, Inc. will report on the latest data from the FARs program, discuss motor carrier inspection results, pilot projects and other matters.

• Seikosoft

Seikosoft will provide an update on recent/new activity related to the NRS.

• UCR Administrator Report (Kellen)

The UCR Staff will provide a management report covering recent activity for the Depository, Operations, and Communications.

IX. Other Business—UCR Board Chair

The UCR Board Chair will provide an update on the recent CVSA Workshop, discuss their current initiatives and local jurisdiction introductions. The UCR Board Chair will then call for any other business, old or new, from the floor.

X. Adjournment—UCR Board Chair

The UCR Board Chair will adjourn the meeting.

The agenda will be available no later than 5:00 p.m. Eastern time, April 14, 2022 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2022-08318 Filed 4-14-22; 11:15 am]

BILLING CODE 4910-YL-P